INTERNATIONAL TRADE COMMISSION

[Investigation No. 731-TA-891 (Final)]

Foundry Coke From China

AGENCY: United States International Trade Commission.

ACTION: Corrected schedule for the subject investigation.

EFFECTIVE DATE: May 21, 2001.

FOR FURTHER INFORMATION CONTACT: D.J. Na (202-708-4727), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION: On March 8, 2001, the Commission established a schedule for the conduct of the final phase of the subject investigation (66 FR 23727, May 9, 20001). Two dates in that notice were incorrect; the correct dates are as follows:

The prehearing staff report will be placed in the nonpublic record on July 13, 2001 and any person who has not entered an appearance as a party to the investigation may submit a written statement of information pertinent to the subject of the investigation on or before August 2, 2001.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

Issued: May 21, 2001.
By order of the Commission.
Donna R. Koehnke,
Secretary.

[FR Doc. 01-13369 Filed 5-25-01; 8:45 am]

BILLING CODE 7020-02-M